DEPARTMENT OF HOMELAND SECURITY

Federal Emergency Management Agency

[Docket ID FEMA-2010-0012; OMB No. 1660-0022]

Agency Information Collection Activities: Submission for OMB Review; Comment Request; Community Rating System (CRS) Program—Application Worksheets and Commentary

AGENCY: Federal Emergency Management Agency, DHS.

ACTION: Notice; correction.

On Tuesday, November 27, 2012, the Federal Emergency Management Agency (FEMA) published a notice in the Federal Register at 77 FR 70798 notifying the public that it was submitting a request for review and approval of a collection of information under the emergency processing procedures in Office of Management and Budget (OMB) regulation 5 CFR 1320.13.

In that notice, FEMA stated that it was requesting that the approval authorize FEMA to use the collection through June 14, 2012. The correct date is June 14, 2013.

Dated: December 19, 2012.
Loretta A. Cassatt,
Executive Officer, Records Management Division, Mission Support Bureau, Federal Emergency Management Agency, Department of Homeland Security.

[FR Doc. 2013-00244 Filed 1-8-13; 8:45 am]

BILLING CODE 9111-52-P